DEPARTMENT OF TRANSPORTATION

Office of the Secretary

Notice of Applications for Certificates of Public Convenience and Necessity and Foreign Air Carrier Permits Filed Under Subpart B (Formerly Subpart Q)

Notice of Applications for Certificates of Public Convenience and Necessity and Foreign Air Carrier Permits Filed Under Subpart B (formerly Subpart Q) during the Week Ending September 21, 2013. The following Applications for Certificates of Public Convenience and Necessity and Foreign Air Carrier Permits were filed under Subpart B (formerly Subpart Q) of the Department of Transportation's Procedural Regulations (See 14 CFR 301.201 et. seq.).

The due date for Answers, Conforming Applications, or Motions to Modify Scope are set forth below for each application. Following the Answer period DOT may process the application by expedited procedures. Such procedures may consist of the adoption of a show-cause order, a tentative order, or in appropriate cases a final order without further proceedings.

Docket Number: DOT-OST-2013-0174.

Date Filed: September 16, 2013.

Due Date for Answers, Conforming Applications, or Motion to Modify Scope: October 7, 2013.

Description: Application of Hi Fly Limited (“Hi Fly Ltd”) requesting a foreign air carrier permit and an exemption to provide scheduled and charter foreign air transportation of persons, property and mail from any point or points behind any Member State of the European Union, via any point or points in any Member State, and via intermediate points, to any point or points in the United States and beyond.

Docket Number: DOT-OST-2008-0127.

Date Filed: September 18, 2013.

Due Date for Answers, Conforming Applications, or Motion to Modify Scope: October 9, 2013.

Description: Application of Evergreen International Airlines, Inc. requesting renewal of its experimental certificate of public convenience and necessity for Route 888 authorizing scheduled foreign air transportation of property and mail between a point or points in the United States and a point or points in the People's Republic of China, via intermediate points and beyond China.

Barbara J. Hairston,
Supervisory Dockets Officer, Docket Operations, Federal Register Liaison.

[FR Doc. 2013-24809 Filed 10-22-13; 8:45 am]

BILLING CODE 4910-9X-P